DEPARTMENT OF THE INTERIOR

Fish and Wildlife Service

Draft Environmental Impact Report/Environmental Impact Statement and Habitat Conservation Plan for the Natomas Basin, Sacramento County, CA

AGENCY: Fish and Wildlife Service, Interior.

ACTION: Notice of availability.

SUMMARY: The City of Sacramento, Sutter County, and the Natomas Basin Conservancy (the “applicants”) have applied to the Fish and Wildlife Service (Service) for 50-year incidental take permits for 22 covered species pursuant to section 10(a)(1)(B) of the Endangered Species Act of 1973, as amended (Act). The applications address the potential for “take” of covered species associated with various activities within the Natomas Basin, a 53,537-acre area in the Sacramento region. These activities (the “covered activities”) include 15,517 acres of planned land development, and development and management of mitigation lands. A conservation program to minimize and mitigate for the covered activities would be implemented as described in the Natomas Basin Habitat Conservation Plan (Plan), which would be jointly implemented by the applicants.

The permit applications, available for public review, include the Plan which describes the proposed program and mitigation, and an accompanying Implementing Agreement (legal contract).

The Service also announces the availability of a Draft Environmental Impact Report/Environmental Impact Statement (Draft EIR/EIS) that addresses the environmental effects associated with issuing the permits and implementing the Plan. The analysis provided in the Draft EIR/EIS is intended to accomplish the following: inform the public of the proposed action and alternatives; address public comments received during the scoping period; disclose the direct, indirect, and cumulative environmental effects of the proposed action and each of the alternatives; and indicate any irreversible commitment of resources that would result from implementation of the proposed action.

DATES: Written comments should be received on or before October 22, 2002.

Public meetings are scheduled as follows:

1. September 23, 2002, First Session: 4 p.m. to 6 p.m.; Second Session: 7 p.m. to 9 p.m., Sacramento, California;

2. September 25, 2002, First Session: 4 p.m. to 6 p.m.; Second Session: 7 p.m. to 9 p.m., Yuba City, California.

ADDRESSES: Comments should be addressed to the Field Supervisor, Fish and Wildlife Service, Sacramento Fish and Wildlife Office, 2800 Cottage Way, W-2605, Sacramento, California 95825. Written comments may be sent by facsimile to (916) 414-6711.

The public meetings will be held at the following locations:

1. Sacramento—1231 I Street, First Floor;

2. Yuba City—Whitaker Hall, 44 Second Street.

FOR FURTHER INFORMATION CONTACT: Ms. Vicki Campbell, Chief, Conservation Planning Division, at the Sacramento Fish and Wildlife Office (see ADDRESSES); telephone: (916) 414-6600.

SUPPLEMENTARY INFORMATION:

Availability of Documents

Individuals wishing copies of the applications, Draft EIR/EIS, Plan, and Implementing Agreement should immediately contact the Service by telephone at (916) 414-6600 or by letter to the Sacramento Fish and Wildlife Office (see ADDRESSES). Copies of the Draft EIR/EIS, Plan, and Implementing Agreement also are available for public inspection, during regular business hours, at the Sacramento Fish and Wildlife Office; the City of Sacramento Planning and Building Department, 1231 I Street, Room 300, Sacramento, California; State Library, 914 Capitol Mall, Sacramento, California; Central Library, 828 I Street, Sacramento, California; South Natomas Library, 2901 Truxel Road, Sacramento, California; and Sutter County Library, 750 Forbes Avenue, Yuba City, California.

Comments

Written comments will be received at the public meetings. Written comments also may be received after the public meetings, until the close of the comment period [see DATES]. All comments received, including names and addresses, will become part of the official administrative record and may be made available to the public.

Background Information

Section 9 of the Act and Federal regulation prohibit the “take” of animal species listed as endangered or threatened. Take is defined under the Act as harass, harm, pursue, hunt, shoot, wound, kill, trap, capture or collect listed animal species, or attempt to engage in such conduct (16 U.S.C. 1538). However, under limited circumstances, the Service may issue permits to authorize “incidental take” of listed animal species. “Incidental take” is defined by the Act as take that is incidental to, and not the purpose of, carrying out of an otherwise lawful activity. Regulations governing permits for threatened species and endangered species, respectively, are at 50 CFR 17.32 and 50 CFR 17.22.

The applicants are seeking permits for take of the following federally listed species: the threatened giant garter snake (Thamnophis gigas), threatened valley elderberry longhorn beetle (Desmocerus californicus dimorphus), threatened vernal pool fairy shrimp (Branchinecta lynchi), endangered vernal pool tadpole shrimp (Lepidurus packardi), threatened Colusa grass (Neostapfia colusana), endangered Sacramento Orcutt grass (Orcuttia viscida), and threatened slender Orcutt grass (Orcuttia tenuis). The proposed permits would also authorize future incidental take of the currently unlisted Swainson's hawk (Buteo swainsoni), Aleutian Canada goose (Branta canadensis leucopareia), bank swallow (Riparia riparia), tricolored blackbird (Agelaius tricolor), northwestern pond turtle (Clemmys marmorata marmorata), white-faced ibis (Plegadis chihi), loggerhead shrike (Lanius ludovicianus), burrowing owl (Athene cunicularia), California tiger salamander (Ambystoma californiense), western spadefoot toad (Scaphiopus hammondii), midvalley fairy shrimp (Branchinecta mesovallensis), Boggs Lake hedge-hyssop (Gratiaola heterosepala), legenere (Legenere limosa), delta tule pea (Lathyrus jepsonii ssp. jepsonii) and Sanford's arrowhead (Sagittaria sanfordii), should any of these species become listed under the Act during the life of the permit. Collectively, the 22 listed and unlisted species are referred to as the “covered species” in the Plan.

The applicants propose to minimize and mitigate the effects to covered species associated with the covered activities by participating in the Plan. The purpose of this basin-wide conservation program is to promote biological conservation in conjunction with economic and urban development within the Natomas Basin. Through the payment of development fees, one-half acre of mitigation land would be established for every acre of land developed within the various permit areas (a total of 7,759) acres of mitigation land to be acquired based on 15,517 acres of urban development). The mitigation land would be acquired and managed by the Natomas Basin Conservancy. In addition to the requirement to pay mitigation fees, the Plan also includes take avoidance and minimization measures.

The Draft EIR/EIS considers four alternatives in addition to the Proposed Action and the No Action Alternative. Under the No Action Alternative, no section 10(a)(1)(B) permits would be issued for take of listed species associated with the covered activities; the applicants would address the potential for take of listed species on a case-by-case basis. The Increased Mitigation Ratio Alternative would double the extent of required mitigation land relative to the Plan. The Habitat-Based Mitigation Alternative would prescribe mitigation based on the value of habitat to be disturbed, rather than on a general ratio applied to all lands to be disturbed. The Reserve Zone Alternative would prioritize specific areas within the Natomas Basin for acquisition, in contrast to the general acquisition strategy described in the Plan. The Reduced Potential for Incidental Take Alternative would result in reduced urban development covered by the permits, and would therefore reduce the potential for incidental take associated with urban development.

In August 2001, (66 FR 43267), two water agencies, Reclamation District No. 1000 (RD 1000), and Natomas Central Mutual Water Company (Natomas Mutual), decided to join the City of Sacramento and Sutter County as applicants for permits and participated in drafting the Plan. At this time, RD 1000 and Natomas Mutual have chosen not to submit an application for an incidental take permit. They may decide to apply at a later time and commit to the terms of the Plan, and through issuance of a permit by the Service, join as full permittees at a future date. It should be noted that because of RD 1000 and Natomas Mutual's previous participation as potential applicants, and the possibility that they may decide to apply for a permit at some future date, the description of and analysis of the two water agencies as permittees has remained in both the Plan and the EIR/EIS. Should the water agencies apply for a permit in the future, then additional notification and documentation may be needed pursuant to the National Environmental Policy Act.

The Service invites the public to comment on the Plan and Draft EIR/EIS during a 60-day public comment period. This notice is provided pursuant to section 10(a) of the Endangered Species Act and Service regulations for implementing the National Environmental Policy Act of 1969 (40 CFR 1506.6). The Service will evaluate the application, associated documents, and comments submitted thereon to prepare a Final EIR/EIS. A decision on the permit applications will be made no sooner than 30 days after the publication of the Final EIR/EIS.

Dated: August 19, 2002.
Steve Thompson,
Manager, California/Nevada Operations Office, Sacramento, California.

[FR Doc. 02-21680 Filed 8-23-02; 8:45 am]

BILLING CODE 4310-55-P